DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before February 25, 2009.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations, and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR §§ 44.10 and 44.11 establish the requirements and procedures for filing petitions for modification.

II. Petitions for Modification

Docket Number: M-2008-054-C.

Petitioner: Parkwood Resources, Inc., 511 Railroad Avenue, Homer City, Pennsylvania 15748.

Mine: Cherry Tree Mine, MSHA I.D. No. 36-090224, located in Clearfield County, Pennsylvania.

Regulation Affected: 30 CFR 75.500(d) (Permissible electric equipment).

Modification Request: The petitioner requests a modification of the existing standard to permit an alternative method of compliance to use battery-powered non-permissible surveying equipment, including, but not limited to, portable battery operated mine transits, total station surveying equipment, distance meters, and laptop computers, in or inby the last open crosscut. The petitioner proposes to: (1) Use non-permissible electronic surveying equipment in or inby the last open crosscut and examine the equipment prior to use to ensure that the equipment is in safe operating condition; (2) have a qualified person examine the equipment at intervals not to exceed 7 days and record the examination results in the weekly electrical equipment examination book. The examination will include: (i) Checking the instrument for any physical damage and the integrity of the case; (ii) removing the battery and inspecting for corrosion; (iii) inspecting the contact points to ensure a secure connection to the battery; (iv) reinserting the battery and powering up and shutting down to ensure proper connections; and (v) checking the battery compartment cover to ensure that it is securely fastened. In addition, the operator will also (1) have a qualified person continuously monitor for methane immediately before and during the use of non-permissible surveying equipment in or inby the last open crosscut or in the return; (2) eliminate the use of non-permissible surveying equipment if methane is detected in concentrations at or above 1.0 percent methane; (3) de-energize the equipment immediately and withdraw the equipment outby the last open crosscut when 1.0 percent or more of methane is detected while in use; (4) eliminate the use of non-permissible surveying equipment where float coal dust is in suspension; (5) charge or change batteries contained in the surveying equipment in fresh air outby the last open crosscut; (6) provide training to qualified personnel who use the equipment to properly recognize the hazards and limitations associated with use of the equipment; (7) put the non-permissible surveying equipment into service only after MSHA has initially inspected the equipment and determined that it is in compliance with all of the terms and conditions of this petition; and (8) submit proposed revisions for the part 48 training plan to the District Manager, which will include specified initial and refresher training regarding the terms and conditions stated in the proposed decision and order. The petitioner asserts that application of the existing standard would result in a diminution of safety to the miners and the proposed alternative method would at all times guarantee no less than the same measure of protection afforded by the existing standard.

Docket Number: M-2008-055-C.

Petitioner: Parkwood Resources, Inc., 511 Railroad Avenue, Homer City, Pennsylvania 15748.

Mine: Cherry Tree Mine, MSHA I.D. No. 36-09224, located in Clearfield County, Pennsylvania.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways. The petitioner proposes to: (1) Use non-permissible electronic surveying equipment to be used in or inby the last open crosscut and examine the equipment prior to use to ensure that the equipment is in safe operating condition; (2) have a qualified person examine the equipment at intervals not to exceed 7 days and record the examination results in the weekly electrical equipment examination book. The examination will include: (i) Checking the instrument for any physical damage and the integrity of the case; (ii) removing the battery and inspecting for corrosion; (iii) inspecting the contact points to ensure a secure connection to the battery; (iv) reinserting the battery and powering up and shutting down to ensure proper connections: and (v) checking the battery compartment cover to ensure that it is securely fastened. In addition, the operator will also: (1) Have a qualified person continuously monitor for methane immediately before and during the use of non-permissible surveying equipment in or inby the last open crosscut or in the return; (2) eliminate the use of non-permissible surveying equipment if methane is detected in concentrations at or above 1.0 percent methane; (3) de-energize the equipment immediately and withdraw the equipment outby the last open crosscut when 1.0 percent or more of methane is detected while the equipment is in use; (4) eliminate the use of non-permissible surveying equipment where float coal dust is in suspension; (5) charge or change batteries contained in the surveying equipment in fresh air outby the last open crosscut; (6) provide training to qualified personnel who use the surveying equipment to properly recognize the hazards and limitations associated with the use of the equipment; (7) put the non-permissible surveying equipment in to service only after MSHA has initially inspected the equipment and determined that it is in compliance with all of the terms and conditions of this petition; and (8) submit proposed revisions for the part 48 training plan to the District Manager, which will include specified initial and refresher training regarding the terms and conditions stated in the Proposed Decision and Order. The petitioner asserts that application of the existing standard would result in a diminution of safety to the miners and the proposed alternative method would at all times guarantee no less than the same measure of protection afforded by the existing standard.

Docket Number: M-2008-056-C.

Petitioner: Midland Trail Energy, LLC, 42 Rensford Star Route, Charleston, West Virginia 25306.

Mine: Blue Creek #1 Mine, MSHA I.D. No. 46-09297 and Blue Creek #2 Mine, MSHA I.D. No. 46-09296, located in Kanawha County, West Virginia.

Regulation Affected: 30 CFR 75.900 (Low- and Medium-voltage circuits serving three-phase alternating current equipment; circuit breakers).

Modification Request: The petitioner requests a modification of the existing standard to permit the circuit breaker to be used in series with a contactor. The petitioner proposes to use the circuit breaker for short circuit protection while the contactor may be equipped to provide undervoltage, grounded phase protection, overload protection and other protective functions normally provided by the circuit breaker. The petitioner states that this would allow the use of contactors to provide undervoltage, grounded phase, overload, and monitor the grounding conductors for low and medium-voltage power circuits serving three-phase alternating current equipment located in the mine, conditioned upon compliance with the following terms and conditions: (1) The nominal voltage of the power circuit(s) will not exceed 995 volts; (2) the nominal voltage of the control circuit(s) and audible alarm units will not exceed 120 volts; (3) contactors will be built into the same enclosure as the circuit breakers; (4) contactors with associated protective relays will provide undervoltage protection for low and medium-voltage circuits serving three-phase alternating current equipment; (5) the voltage rating of the contactor(s) will be at least the maximum rms voltage of the circuit being protected, and the continuous current rating of the contactor(s) will be at least the full load current of the utilization equipment; (6) each circuit breaker installed in conjunction with a contactor will be equipped with devices to provide short-circuit protection for each piece of equipment; (7) a monthly exam will be conducted on each circuit to assure proper operation of the contactor; (8) the monthly exam will include activating undervoltage, grounded phase and ground monitor trip devices to test proper operation and results of the tests of the contactors will be recorded with the required monthly tests of the circuit breakers; (9) prior to each remote start-up of a circuit or a group of circuits, an audible alarm at each affected contactor or affected area, will be activated for at least 10 seconds; (10) circuits will be wired so that contactors can only be closed remotely when undervoltage or loss of voltage condition no longer exists, and all other conditions that cause the contactor to open will require a manual reset at the contactor; and (11) circuits providing power to portable or mobile equipment will not be designed to be remotely started; and circuits providing power to mobile equipment will not be configured to be remotely reset. The petitioner further states that the alternative method would not be implemented until all qualified persons who perform work on the equipment and circuits have received training in safe maintenance procedures, and in the terms and conditions of the Proposed Decision and Order. Persons may review a complete description of petitioner's alternative method and procedures at the MSHA address listed in this notice. The petitioner asserts that the proposed alternative method will assure a greater measure of protection to the miners than would be provided by the existing standard.

Docket Number: M-2008-057-C.

Petitioner: Midland Trail Energy, LLC, 42 Rensford Star Route, Charleston, West Virginia 25306.

Mine: Blue Creek #1 Mine, MSHA I.D. No. 46-09297 and Blue Creek #2 Mine, MSHA I.D. No. 46-09296, located in Kanawha County, West Virginia.

Regulation Affected: 30 CFR 75.1002 (installation of electric equipment and conductors; permissibility).

Modification Request: The petitioner requests a modification of the existing standard to permit the use of Joy 12CM27 continuous miners which operate at 2,400 volts and offer the following general safety advantages over low-voltage continuous miners: (a) Excessive voltage regulation can result in motor overheating, inadequate motor torque, and excessive wear and tear which can in turn reduce the efficiency and safety of the continuous miner; and (b) safety is diminished as the limits of the available interrupting ratings of circuit breakers at 1,000 volts are encountered. The petitioner's petition addresses: voltage limitation of power circuits; voltage limitation of control circuits; ground-fault protection; circuit testing; short-circuit protection; undervoltage protection; guarding of high-voltage trailing cables; design of high-voltage trailing cables; and repairs to high-voltage trailing cables. Persons may review a complete description of petitioner's alternative method and procedures at the MSHA address listed in this notice. The petitioner asserts that the proposed alternative method will at all times guarantee no less than the same measure of protection afforded affected persons by the 1,000-volt limit imposed under 30 CFR 75.2 and 30 CFR 75.1002.

Docket Number: M-2008-058-C.

Petitioner: Timber Coal Company, Inc., P.O. Box 188, Sacramento, Pennsylvania 17968.

Mine: Genie Stripping Operation, MSHA I.D. No. 36-09098, located in Schuylkill County, Pennsylvania.

Regulation Affected: 30 CFR 77.1200(c) (Mine map).

Modification Request: The petitioner requests a modification of the existing standard to permit the use of cross-sections in lieu of contour lines at regular intervals through the area to be mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; and (3) the vast majority of current surface anthracite mining involves either the mining of remnant pillars from previous mining/mine operators or the mining of veins of lower quality in proximity to inaccessible and frequently flooded abandoned mine workings which may or may not be mapped. The petitioner asserts that the proposed alternative method will in no way provide less than the same measure of protection than that afforded the miners under the existing standard.

Docket Number: M-2008-006-M.

Petitioner: Solvay Chemicals, Inc., P.O. Box 1167, 400 County Road 85, Green River, Wyoming 82935.

Mine: Solvay Chemicals—Trona Underground Mine, MSHA I.D. No. 48-01295, located in Sweetwater County, Wyoming.

Regulation Affected: 30 CFR 57.22305 (Approved equipment (III mines)).

Modification Request: The petitioner requests a modification of the existing standard to permit the use of certain non-permissible tools or their equivalent in or beyond the last open crosscut. The petitioner states that: (1) Specifically these tools are CMXA 51-IS Intrinsically Safe (IS) Portable Data Collector/FFT Analyzer; (2) methane levels would be continuously monitored during data collection use by the longwall continuous methane monitors located at the shear, headgate, and tailgate; (3) the continuous methane monitors alarm at 1% methane and de-energize the longwall mining machine at 1.5% methane; (4) methane levels will also be monitored by an appropriate continuous monitoring unit carried by the operator; and (5) methane levels would be measured within 6 inches of the CMXA 51-IS immediately prior to its use. The petitioner asserts that the proposed alternative method would guarantee the miners no less than the same measure of protection given to them by the existing standard.

Dated: January 16, 2009.
Patricia W. Silvey,
Director, Office of Standards, Regulations, and Variances.

[FR Doc. E9-1480 Filed 1-23-09; 8:45 am]

BILLING CODE 4510-43-P